FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Thursday August 29, 2024 in the Commission Meeting Room and available to the public via the internet at http://www.fcc.gov/live, from 10 a.m. to 12:30 p.m.

DATES: Thursday August 29, 2024.

ADDRESSES: Federal Communications Commission, 45 L Street NE, Washington, DC 20554.

FOR FURTHER INFORMATION CONTACT: Martin Doczkat, Chief, Electromagnetic Compatibility Division, 202-418-2435; martin.doczkat@fcc.gov.

SUPPLEMENTARY INFORMATION: At the August 29th meeting, the TAC will consider and advise the Commission on topics such as continued efforts at looking beyond 5G advanced as 6G begins to develop so as to facilitate U.S. leadership; studying advanced spectrum sharing techniques, including the implementation of artificial intelligence and machine learning to improve the utilization and administration of spectrum; and other emerging technologies. This agenda may be modified at the discretion of the TAC Chair and the Designated Federal Officer (DFO).

Meetings are broadcast live with open captioning over the internet from the FCC Live web page at http://www.fcc.gov/live/. The public may submit written comments before the meeting to Martin Doczkat, the FCC's Designated Federal Officer for Technological Advisory Council by email: martin.doczkat@fcc.gov or U.S. Postal Service Mail (Martin Doczkat, Federal Communications Commission, 45 L Street NE, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted but may not be possible to fill.

Federal Communications Commission.
Ronald T. Repasi,
Chief, Office of Engineering and Technology.

[FR Doc. 2024-16485 Filed 7-25-24; 8:45 am]

BILLING CODE 6712-01-P